LIBRARY OF CONGRESS

Copyright Office

[Docket No. RM 97-5D]

Copyright Restoration of Works in Accordance With the Uruguay Round Agreements Act; Notification Pertaining to Notices of Intent To Enforce Restored Copyrights

AGENCY: Copyright Office, Library of Congress.

ACTION: Notification of request to retract prior filings of notices of intent to enforce restored copyrights; correction.

SUMMARY: On December 3, 2001, the Copyright Office published a public notice that the Copyright Office received a notification of a request to retract the filing of certain notices of intent to enforce restored copyrights under the Uruguay Round Agreements Act. This document makes non-substantial corrections to that notice.

EFFECTIVE DATE: April 1, 2002.

FOR FURTHER INFORMATION CONTACT: Charlotte Douglass, Principal Legal Advisor to the General Counsel, or Marilyn Kretsinger, Assistant General Counsel, Copyright GC/I&R, PO Box 70400, Southwest Station, Washington DC 20024-0400. Telephone (202) 707-8380. Fax (202) 707-8366.

SUPPLEMENTARY INFORMATION: The Copyright Office published a notice, RM 97-5C, in the Federal Register of December 3, 2001 (66 FR 60223), addressing the receipt of a notification from the Authors Rights Restoration Corporation retracting all of its filings in the Copyright Office of notices of intention to enforce restored copyrights under the Uruguay Round Agreements Act. This document makes non-substantial corrections to the table of titles published in that notice.

In notice RM 97-5C published on December 3, 2001 (66 FR 60223), correct the table that begins in column 1 on page 60223 to read as follows:

U.S. Copyright Owner | Film title | Translated title
Alameda Films, S.A. | El Baron del Terror | The Baron of Terror.
Alameda Films, S.A. | El Grito de la Muerte | Cry of Death.
Alameda Films, S.A. | El Hombre y El Monstruo | The Man and the Monster.
Alameda Films, S.A. | La Cabeza Viviente | The Living Head.
Cima Films, S.A. de C.V. | Dios Los Cria | Made by God.
Cima Films, S.A. de C.V. | Juan Armenta el Repatriado | Juan Armeta the Repatriated.
Cima Films, S.A. de C.V. | La Ley del Monte | The Law of the Mountain.
Cima Films, S.A. de C.V. | La Valentina | The Valentina.
Cinematografic Filmex S.A. de C.A. | Tacos Al Carbon | Tacos Al Carbon.
Cinematografic Filmex S.A. de C.A. | Diamantes, Oro y Amor | Diamonds, Gold and Love.
Cinematografica Jalisco, S.A. de C.V. | El Desconocido | The Unknown.
Cinamatograficia Sol, S.A. de C.V. | Carceria Humana | Human Hunter.
Cinematografica Sol. S.A. de C.V. | En Peligro de Muerte | In Danger of Dying.
Cinematografica Sol. S.A. de C.V. | El Ansia de Matar | The Longing of Kill, The Longing of Death, Eager to Kill.
Cinematografica Sol. S.A. de C.V. | El Hombre Violento | The Violent Man.
Cineproduccioine Internacionales, S.A. de C.V. | El Trinquetero | The Cheater.
Cineproducciiones Internacionales, S.A. de C.V | El Sargento Perez | The Sargent Perez.
Cineproducciones Internacionales, S.A. de C.V. | El Arte de Enganar | The Art of Fooling.
Cineproducciones Internacionales, S.A. de C.V. | El Deseo En Otono | The Autumn Desire.
Cinevision, S.A. de C.V. | La Gatita | The Pussy Cat.
Cumbre Films, S.A. de C.V. | Acorralado | Corraled.
Cumbre Films, S.A. de C.V. | El Cuatrero | The Cattle Thief.
Cumbre Films, S.A. de C.V. | El Diablo El Santo, y El Tonto | The Devil, the Saint, and the Idiot.
Cumbre Films, S.A. de C.V. | El Embustero | The Lying.
Cumbre Films, S.A. de C.V. | El Macho | The Macho Man.
Cumbre Films, S.A. de C.V. | Entre Compadres Tu Veas | Seen Between Godfathers.
Cumbre Films, S.A. de C.V. | Por Tu Maldito Amor | For Your Dammed Love.
Cumbre Films, S.A. de C.V. | Sinverguenza Pero Honrado | Brazen But Honest.
Cumbre Films, S.A. de C.V. | Mi Querido Viejo | My Dear Old Man.
Cumbre Films, S.A. de C.V. | Matar O Morir | To Kill Or To Die.
Cumbre Films, S.A. de C.V. | El Sinverguenza | The Scoundrel.
Diana Films Internacionales, S.A. de C.V. | Cartas Marcadas | Marked Cards.
Diana Films Internacionales, S.A. de C.V. | Duro Pero Seguro | Hard But Sure.
Diana Films Internacionales, S.A. de C.V. | La Presidenta Municipal | The Town President.
Filmadora Mexicana, S.A. de C.V. | Medianoche | Middle Night.
Filmadora Mexicana, S.A. de C.V. | La Esquina de Mi Barrio | My Neighborhood Corner.
Filmadora Mexicana, S.A. de C.V. | Duena y Senora | Owner and Lady.
Filmadora Mexicana, S.A. de C.V. | La Casa Chica | The Other House.
Gazcon Films, S.A. de C.V. | Dos de Abajo | Two From Below.
Gazcon Films, S.A. de C.V. | Perro Callerjero I | Wild Dog I.
Grupo Galindo, S.A. de C.V. | El Rey dc Los Albures | The King of Double Meaning.
Grupo Galindo, S.A. de C.V. | Amaneci en Tus Brazos | I Woke Up In Your Arms.
Grupo Galindo, S.A. de C.V. | Carabina 30-30 | 30-30 Carbine.
F. Mier, S.A. | Vivo O Muerto | Dead or Alive.
F. Mier, S.A. | La Hermana Blanca | The White Sister.
F. Mier, S.A. | El Nino Perdido | The Lost Boy.
Oro Films, S.A. de C.V. | El Martir de Calvario | The Martyr Of The Calvary.
Oro Films, S.A. de C.V. | El Hombre Sin Rostro | The Man Without A Face.
Oro Films, S.A. de C.V. | El Aviso y Inoportuno | The Unexpected Announcement.
Oro Films, S.A. de C.V. | Vivillo Desde Chiquillo | Smart Since Childhood.
Oro Films, S.A. de C.V. | Casa De Vecindad | House Of The Neighborhood.
Peliculas y Video Internacioinale, S.A. de C.V. | Ay Amor Como Me Has Puesto | Oh Love, What Has Become of Me.
Peliculas y Videos Internacionale, S.A. de C.V. | El Cielo y la Tierra | The Sky and the Earth.
Peliculas y Videos Internacionale, S.A. de C.V. | El Tesoro del Rey Salomon | The Treasury Of King Solomon.
Peliculas y Videos Internacionale, S.A. de C.V. | Esposa O Amante | Wife Or Lover.
Peliculas y Videos Internacionale, S.A. de C.V. | Lagrimas de Amor | Tears Of Love.
Procinema, S.A. de C.V. | Un Par a Todo Dar | A Great Pair.
Producciones EGA, S.A. de C.V. | El Bronco | The Bronco.
Producciones Galubi, S.A. de C.V. | La Golfa Del Barrio | The Woman.
Producciones Galubi, S.A. de C.V. | El Hijo del Palenque | Palenque's Son.
Producciones Galubi, S.A. de C.V. | Santos vs. Los Asesinos De Ortros Mundos | Santo Verus the Assassins from Other Worlds.
Producciones Galubi, S.A. de C.V. | El Agentc Viajero | The Traveling Agent.
Producciones Matouk, S.A. de C.V. | Las Aventuras de Juliancito | The Adventures of Juliancito.
Producciones Matouk, S.A. de C.V. | Chico Ramos | Young Ramos.
Producciones Matouk, S.A. de C.V. | Primera Comunion | First Communion.
Producciones Rosas Priego, S.A. de C.V. | Quinceanera | She's Fifteen.
Producciones Rosas Priego, S.A. de C.V. | Azahares Rojos | Red Blossom.
Producciones Rosas Priego, S.A. de C.V. | Crucifijo de Piedra | The Stone Cross.
Producciones Rosas Priego, S.A. de C.V. | El Aguila Negra | The Black Eagle.
Producciones Torrente, S.A. de C.V. | Narcoterror | Narcoterror.
Producciones Torrente, S.A. de C.V. | Pandilla de Criminales | Gang of Criminals.
Producciones Torrenta, S.A. de C.V. | Ladrones de Tumbas | Thieves Of The Tombs.
Producciones Virgo, S.A. de C.V. | Andante | Walker.
Producciones Virgo, S.A. de C.V. | El Sexo Sentido | The Sex Sense.
Producciones Virgo, S.A. de C.V. | No Hay Cruces en el Mar | There Are No Crosses In The Sea.
Produciones, Vigo, S.A. de C.V. | El Sexo Me da Risa | Sex Makes Me Laugh.
Secine, S.A. de C.V. | El Gallo de Oro | The Golden Rooster.
Video Universal, S.A. de C.V. | Thaimi, La Hija del Pescador | Thaima, Daughter of the Fisherman.
Video Universal, S.A. de C.V. | La Tortola del Ajusco | The Turtledove Of Ajusco.
Video Universal, S.A. de C.V. | El Fantastico Mundo del los Hippies | The Fantastic World of the Hippies.
Video Universal, S.A. de C.V. | El Reino de los Gangsters | Reign of the Gangsters.

Dated: March 27, 2002.
Marilyn J. Kretsinger,
Assistant General Counsel.

[FR Doc. 02-7808 Filed 3-29-02; 8:45 am]

BILLING CODE 1410-30-P